DEPARTMENT OF ENERGY

Federal Energy Regulatory Commission

[Project No. 5944-024]

Moretown Hydroelectric LLC; Notice of Intent To Prepare an Environmental Assessment

On November 30, 2020, Moretown Hydroelectric LLC filed an application for a subsequent license to continue operating the existing 1,200-kilowatt Moretown No. 8 Hydroelectric Project No. 5944 (Moretown Project or project). The project is located on the Mad River in Washington County, Vermont. The project does not occupy Federal land.

In accordance with the Commission's regulations, on November 8, 2022, Commission staff issued a notice that the project was ready for environmental analysis (REA notice). Based on the information in the record, including comments filed on the REA notice, staff does not anticipate that licensing the project would constitute a major Federal action significantly affecting the quality of the human environment. Therefore, staff intends to prepare a draft and final Environmental Assessment (EA) on the application to license the Moretown Project.

The EA will be issued and circulated for review by all interested parties. All comments filed on the EA will be analyzed by staff and considered in the Commission's final licensing decision.

The application will be processed according to the following schedule. Revisions to the schedule may be made as appropriate.

Milestone | Target date
Commission issues Draft EA | June 2023.
Comments on Draft EA | July 2023.
Commission issues Final EA | October 2023.¹
¹ The Council on Environmental Quality's (CEQ) regulations under 40 CFR 1501.10(b)(1) require that EAs be completed within 1 year of the Federal action agency's decision to prepare an EA. This notice establishes the Commission's intent to prepare an EA for the Moretown Project. Therefore, in accordance with CEQ's regulations, the Final EA must be issued within 1 year of the issuance date of this notice.

Any questions regarding this notice may be directed to Maryam Zavareh at (202) 502-8474 or maryam.zavareh@ferc.gov.

Dated: February 15, 2023.
Kimberly D. Bose,
Secretary.

[FR Doc. 2023-03685 Filed 2-22-23; 8:45 am]

BILLING CODE 6717-01-P